DEPARTMENT OF DEFENSE

Office of the Secretary

Notice of Intent To Grant an Exclusive License; Integrata Security, LLC

AGENCY: National Security Agency, DoD.

ACTION: Notice.

SUMMARY: The National Security Agency hereby gives notice of its intent to grant Integrata Security, LLC a revocable, non-assignable, exclusive, license to practice the following Government-Owned invention as described in U.S. Patent No. 8,069,483 entitled: “Device for and Method of Wireless Intrusion Detection,” issued by the U.S. Patent & Trademark Office on November 29, 2011, and any related non-provisional patent application and all Letters Patent issuing thereon, and any continuation, continuation-in-part or division of said non-provisional patent application and any reissue or extension of said Letters Patent.

The above-mentioned invention is assigned to the United States Government as represented by the National Security Agency.

DATES: Anyone wishing to object to the grant of this license has fifteen (15) days from the date of this notice publication to file written objections along with any supporting evidence, if any.

ADDRESSES: Written objections are to be filed with the National Security Agency Technology Transfer Program, 9800 Savage Road, Suite 6848, Fort George G. Meade, MD 20755-6848.

FOR FURTHER INFORMATION CONTACT: Marian T. Roche, Director, Technology Transfer Program, 9800 Savage Road, Suite 6848, Fort George G. Meade, MD 20755-6848, telephone (443) 634-3514.

Dated: April 24, 2013.
Aaron Siegel,
Alternate OSD Federal Register Liaison Officer, Department of Defense.

[FR Doc. 2013-10061 Filed 4-29-13; 8:45 am]

BILLING CODE 5001-06-P